DEPARTMENT OF COMMERCE

Census Bureau

Agency Information Collection Activities; Submission to the Office of Management and Budget (OMB) for Review and Approval; Comment Request; Decennial Census Temporary, Intermittent Applicant Information Collection

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection, Decennial Census Temporary, Intermittent Applicant Information Collection, prior to the submission of the information collection request (ICR) to OMB for approval.

DATES: To ensure consideration, comments regarding this proposed information collection must be received on or before Monday, February 10, 2025.

ADDRESSES: Interested persons are invited to submit written comments by email to FLD.Decennial.Oversight@census.gov. Please reference Decennial Census Temporary, Intermittent Applicant Information Collection, in the subject line of your comments. You may also submit comments, identified by Docket Number USBC-2024-0030, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Anna Parikos, Chief, Decennial Administrative Branch, 301-763-7209, and FLD.Decennial.Oversight@census.gov.

SUPPLEMENTARY INFORMATION:

I. Abstract

The Census Bureau is implementing an electronic Decennial Census Temporary, Intermittent Applicant Information Collection to gather information from job seekers needed to fill temporary, intermittent Decennial Census Program positions, starting with the 2026 Census Test. Questions used to qualify and select applicants for positions are in the job application information section of the collection. This section collects Social Security number, date of birth, contact information, citizenship status, selective service and veteran's preference status and documentation, Federal employment/annuity status, access to transportation, hours of availability and related job experience. The supplemental voluntary applicant information section includes questions found on the Equal Employment Opportunity Commission's (EEOC's) common use form 3046-0046, Demographic Information on Applicants for Federal Employment, developed to support EEOC Management Directive (MD) 715-1. The voluntary questions also include recruiting source and education questions to help improve future recruiting efforts.

This collection gathers basic information needed for all temporary, intermittent decennial positions, streamlining the application process for both the applicant and the Census Bureau, by allowing applicants to be considered for several positions with one set of application data. To further evaluate each applicant's fit for positions, after completing the Decennial Census Temporary, Intermittent Applicant Information Collection, applicants will answer position related assessment questions.

The Census Bureau discontinued a similar collection for the Current Surveys, Special Census, and Decennial Census Programs under OMB No. 0607-0139.

II. Method of Collection

Data will be gathered electronically in a system called, Decennial Administrative, Recruiting, Hiring, and Training System (DARHTS). Applicants will visit census.gov, click on a link to access the DARHTS, create an account and proceed to complete the job application information, the supplemental voluntary applicant information, and then the position specific assessment questionnaires. The DARHTS system will create an electronic PDF output of the job application information questions and the applicant respondent's answers as a record. If the applicant respondent makes subsequent changes to their job application information, the system will create additional PDF documents for each change submission. Each PDF created will include the OMB clearance number and the expiration date.

The Census Bureau is not including for clearance an online Spanish version of DARHTS or paper versions of the job application information or supplemental voluntary applicant information for the three-year period covered by this request. The current collection does not require these job application alternatives. Subsequent renewals will include the Spanish and paper versions, when the collection is rolled out to Puerto Rico and remote parts of Alaska.

III. Data

OMB Control Number: 0607-XXXX.

Form Number(s): None.

Type of Review: Regular submission, New Information Collection Request.

Affected Public: Individuals interested in being considered for temporary, intermittent decennial census jobs.

Estimated Number of Respondents: 12,000 over 3 years.

Estimated Time per Response: 20 minutes.

Estimated Total Annual Burden Hours: 1,333 average per year, 4,000 total over 3 years.

Estimated Total Annual Cost to Public: $0

Respondent's Obligation: Voluntary.

Legal Authority: Title 13, United States Code, Section 23a and 23; EEOC Management Directive (MD) 715-1 and Executive Order 13548.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-28703 Filed 12-5-24; 8:45 am]

BILLING CODE 3510-07-P